DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Hiwot A. Woreta, Duke University Medical Center: Based on the report of an inquiry into admitted fabrication of data conducted by the Duke University Medical Center (DUMC) and additional analysis conducted by ORI in its oversight review, the U.S. Public Health Service (PHS) found that Hiwot A. Woreta, former medical student, DUMC, engaged in research misconduct while supported by National Institute of Diabetes and Digestive and Kidney Diseases (NIDDK), National Institutes of Health (NIH), grant P30 DK034987.

Specifically, PHS found that Ms. Woreta engaged in research misconduct by fabricating data included in Figure 2 of her third year Medical School Thesis at DUMC. These data were also included in a poster presented during the Alpha Omega Alpha Honor Society symposium in May 2004.

Ms. Woreta has entered into a Voluntary Exclusion Agreement in which she has voluntarily agreed, for a period of three (3) years, beginning on February 24, 2006:

(1) To exclude herself from serving in any advisory capacity to PHS including but not limited to service on any PHS advisory committee, board, and/or peer review committee, or as consultant; and

(2) That any institution that submits an application for PHS support for a research project on which the Respondent's participation is proposed or which uses the Respondent in any capacity on PHS supported research, or that submits a report of PHS-funded research in which the Respondent is involved, must concurrently submit a plan for supervision of the Respondent's duties to the funding agency for approval. The supervisory plan must be designed to ensure the scientific integrity of the Respondent's research contribution. Respondent agreed to ensure that a copy of the supervisory plan is also submitted to ORI by the institution. Respondent agreed that she will not participate in any PHS-supported research until such a supervisory plan is submitted to ORI.

FOR FURTHER INFORMATION CONTACT: Director, Division of Investigative Oversight, Office of Research Integrity, 1101 Wootton Parkway, Suite 750, Rockville, MD 20852, (240) 453-8800.

Chris B. Pascal,
Director, Office of Research Integrity.

[FR Doc. 06-2843 Filed 3-23-06; 8:45 am]

BILLING CODE 4150-31-P